SMALL BUSINESS ADMINISTRATION

Reporting and Recordkeeping Requirements Under OMB Review

AGENCY: Small Business Administration.

ACTION: 30-Day Notice.

SUMMARY: The Small Business Administration (SBA) is publishing this notice to comply with requirements of the Paperwork Reduction Act (PRA) (44 U.S.C. Chapter 35), which requires agencies to submit proposed reporting and recordkeeping requirements to OMB for review and approval, and to publish a notice in the Federal Register notifying the public that the agency has made such a submission. This notice also allows an additional 30 days for public comments.

DATES: Submit comments on or before December 23, 2015.

ADDRESSES: Comments should refer to the information collection by name and/or OMB Control Number and should be sent to: Agency Clearance Officer, Curtis Rich, Small Business Administration, 409 3rd Street SW., 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030, curtis.rich@sba.gov.

Copies: A copy of the Form OMB 83-1, supporting statement, and other documents submitted to OMB for review may be obtained from the Agency Clearance Officer.

SUPPLEMENTARY INFORMATION: In accordance with 13 CFR 124.604, as part of its annual review submission, each Participant owned by a Tribe, ANC, NHO or CDC must submit to SBA information showing how they have provided benefits to their members and communities. This data includes information relating to funded cultural programs, employment assistance, jobs, scholarships, internships, subsistence activities, and other services provided.

Title: 8(A) Participant Benefits Report.

Description of Respondents: 8(a) Program Participants—Entity Owned (Indian Tribe, Alaskan Native Corporations, Native Hawaiian Organizations, and Community Development Corporations.

Form Number: 2456.

Estimated Annual Responses: 329.

Estimated Annual Hour Burden: 165.

Curtis B. Rich,
Management Analyst.

[FR Doc. 2015-29693 Filed 11-20-15; 8:45 am]

BILLING CODE 8025-01-P